Proclamation 10011 of April 17, 2020

National Park Week, 2020

By the President of the United States of America

A Proclamation

Our national parks embody the magnificence and grandeur of our great Nation. Every year, more than 300 million visitors enjoy the breathtaking landscapes, abundant wildlife, historic landmarks, and patriotic memorials found at these great American sites. During National Park Week, we recognize the majesty of our national parks, pay tribute to the tranquility and solace they provide, and applaud the men and women who work tirelessly to preserve our heritage for us and for future generations of Americans.

This year, the recognition of our national parks is particularly poignant as our country continues to combat the challenges posed by the coronavirus pandemic. Where our national parks have been able to remain safely open, they continue to provide a respite for the American people. Guidance from local health departments and the Centers for Disease Control and Prevention has led the National Park Service to determine that access to national parks must be temporarily curtailed, and that entire parks must be closed in some cases, to ensure the safety of visitors, employees, volunteers, and others. In the interim, we have found creative ways for Americans to connect with national parks through virtual opportunities that can be experienced remotely. At the same time, we look forward to when we can once again fully share with the public the benefits of our national parks.

Even in challenging times, my Administration remains committed to maintaining and improving the condition and infrastructure of our national parks. Since 2017, we have invested in the restoration of the USS Arizona Memorial at Pearl Harbor, the restoration of the Washington Monument, and the construction of a new boardwalk around Old Faithful in Yellowstone National Park. My fiscal year 2021 budget proposes the establishment of a Public Lands Infrastructure Fund, which would ensure continued long-term investments in the infrastructure of our Nation's public lands. Additionally, last year, I signed into law the John D. Dingell, Jr. Conservation, Management, and Recreation Act, the first comprehensive legislation addressing public lands management in over a decade. This legislation permanently reauthorized the Land and Water Conservation Fund, adjusted the boundaries of 15 national parks, and extended 2 national trails. These improvements will allow increased visitor access to our iconic national parks and landmarks.

The National Park Service also collaborates with a growing network of States, local governments, and nonprofit organizations to encourage all Americans to use parks and other public lands as resources. The programs offered through these partnerships share the storied history of our Nation's triumphs and challenges with visitors from around our country and the world. For example, this year, we commemorate the 100th anniversary of the ratification of the 19th Amendment, which secured for women the right to vote. The voices of women whose vision, tenacity, and resilience moved them to tear down barriers and lead reform movements are shared at the Women's Rights National Historical Park in New York, the Belmont-Paul Women's Equality National Monument in Washington, DC, and other sites across the country.

The splendor of our Nation's landscapes and landmarks is a true reflection of our rich history and the beauty and greatness of America. As we observe National Park Week, we reaffirm our commitment to providing all Americans with greater opportunities to experience the stunning mountains, plains, deserts, coastlines, forests, and cultural and historical monuments displayed in our national parks. This week, we recognize the importance of our national park system and look forward to reopening all areas of our sites and parks to provide the public with more opportunities to enjoy all of our tremendous national landmarks.

NOW, THEREFORE, I, DONALD J. TRUMP, President of the United States of America, by virtue of the authority vested in me by the Constitution and the laws of the United States, do hereby proclaim April 18 through April 26, 2020, as National Park Week. I encourage all Americans to celebrate our national parks by learning more about the natural, cultural, and historical heritage that belongs to each and every citizen of the United States of America.

IN WITNESS WHEREOF, I have hereunto set my hand this seventeenth day of April, in the year of our Lord two thousand twenty, and of the Independence of the United States of America the two hundred and forty-fourth.

[FR Doc. 2020-08840

Filed 4-22-20; 11:15 am]

Billing code 3295-F0-P